Title 3—

The President

Memorandum of May 4, 2010

Delegation of Authority Relating To Certain Functions Under Section 201 (B) of the United States-india Nuclear Cooperation Approval And Nonproliferation Enhancement Act (Public Law 110-369)

Memorandum for the Secretary of Energy

By the authority vested in me as President by the Constitution and the laws of the United States of America, including section 301 of title 3, United States Code, I hereby delegate to you the certification and reporting functions conferred upon the President by section 201 (b) of the United States-India Nuclear Cooperation Approval and Nonproliferation Enhancement Act (Public Law 110-369).

You are authorized and directed to publish this memorandum in the Federal Register.

THE WHITE HOUSE,

Washington, May 4, 2010

[FR Doc. 2010-11725

Filed 5-13-10; 8:45 am]

Billing code 6450-01-P